DEPARTMENT OF HEALTH AND HUMAN SERVICES

National Biodefense Science Board

AGENCY: Office of the Assistant Secretary for Preparedness and Response (ASPR), Department of Health and Human Services (HHS).

ACTION: Notice.

SUMMARY: The National Biodefense Science Board (NBSB or the Board) is authorized under Section 319M of the Public Health Service (PHS) Act, as added by Section 402 of the Pandemic and All-Hazards Preparedness Act of 2006 and amended by Section 404 of the Pandemic and All-Hazards Preparedness Reauthorization Act. The Board is governed by the Federal Advisory Committee Act, which sets forth standards for the formation and use of advisory committees. The NBSB provides expert advice and guidance on scientific, technical, and other matters of special interest to the Department of Health and Human Services (HHS) regarding current and future chemical, biological, nuclear, and radiological agents, whether naturally occurring, accidental, or deliberate. Authority to manage and operate the NBSB, including to receive advice and recommendations from the Board, has been delegated by the Secretary of HHS to the Assistant Secretary for Preparedness and Response (ASPR). The NBSB will meet in public (virtually) on March 7, 2022, beginning at 12:30 p.m. Eastern time. ASPR invites stakeholders and the general public to attend and participate as appropriate. A detailed agenda and instructions to register to attend the meeting will be available on the NBSB meeting website https://www.phe.gov/nbsb.

Procedures for Public Participation: Members of the public may attend the meeting via a toll-free phone number or Zoom teleconference, which requires pre-registration. The meeting link to pre-register will be posted on the meeting website https://www.phe.gov/nbsb. Members of the public may provide written comments or submit questions for consideration by the NBSB at any time via email to NBSB@hhs.gov.

Additionally, the NBSB invites stakeholders to request up to seven minutes to address the Board in-person during the meeting. The Board is interested in hearing from anyone involved in, or who represents, a relevant biomedical, biodefense, or health security industry; serves as faculty or conducts research at an academic institution; occupies a relevant health profession or works for a hospital system or health care consumer organization; or who serves in a relevant state, Tribal, territorial, or local government agency. Requests to provide remarks to the NBSB during the public meeting must be sent to NBSB@hhs.gov by March 1, 2022. In that request, please provide the speaker's name, title, and position, with a brief description of the topic that they will address. The number of speakers and topics will be based on relevance to the mission of the NBSB and amount of time available on the agenda. The charter of the NBSB may be reviewed on the ASPR/NBSB website. Topics and presentations with an obvious commercial bias, to include any form of advertising, marketing, or solicitation, will not be accepted.

FOR FURTHER INFORMATION CONTACT: CAPT Christopher L. Perdue, MD, MPH, NBSB Designated Federal Official, Washington, DC, NBSB@hhs.gov.

Dawn O'Connell,
Assistant Secretary for Preparedness and Response.

[FR Doc. 2022-01764 Filed 1-27-22; 8:45 am]

BILLING CODE 4150-37-P